DEPARTMENT OF HEALTH AND HUMAN SERVICES

National Institutes of Health

Center for Scientific Review; Amended Notice of Meeting

Notice is hereby given of a change in the meeting of the Community Influences on Health Behavior Study Section, October 21, 2013, 08:00 a.m. to October 22, 2013, 06:00 p.m., The St. Regis Washington DC, 923 16th Street NW., Washington, DC 20006 which was published in the Federal Register on September 26, 2013, 78 FR 59361.

The meeting will be held at the Embassy Suites DC Convention Center Hotel, 900 10th Street NW., Washington, DC 20001. The meeting will start on November 18, 2013 at 08:00 a.m. and end on November 19, 2013 at 05:00 p.m. The meeting is closed to the public.

Dated: October 29, 2013.
Melanie J. Gray,
Program Analyst, Office of Federal Advisory Committee Policy.

[FR Doc. 2013-26147 Filed 11-1-13; 8:45 am]

BILLING CODE 4140-01-P